DEPARTMENT OF ENERGY

Federal Energy Regulatory Commission

Notice of Amendment of License and Soliciting Comments, Motions To Intervene, and Protests

February 9, 2000.

Take notice that the following application has been filed with the Commission and is available for public inspection.

a. Type of Application: Amendment of license for the modification of license article 33(f).

b. Project No. 1121-052.

c. Date Filed: January 19, 2000.

d. Applicant: Pacific Gas and Electric Company.

e. Name of Project: Battle Creek Hydroelectric Project.

f. Location: North Fork Battle Creek in Shasta County, California. Part of the Battle Creek Project affects lands of the United States within Lassen National Forest and lands under the supervision of the Bureau of Land Management.

g. Filed Pursuant to: Federal Power Act, 16 U.S.C. 791(a)-825(r).

h. Applicant Contact: Ms. Angela Risden, Pacific Gas and Electric Company, 245 Market Street, San Francisco, CA 94105, (415) 973-6915.

i. FERC Contact: Any questions on this notice should be addressed to Jim Haimes at (202) 219-2780, or e-mail address: james. haimes@ferc.fed.us.

j. Deadline for filing comments and or motions: 30 days from the issuance date of this notice. All documents should be filed by providing an original and eight copies, as required by the Commission's regulations to: David P. Boergers, Secretary, Federal Energy Regulatory Commission, 888 First Street, NE, Washington, DC 20426.

Please include the project name and number (Battle Creek Project, No. 1121-052) on any comments or motions filed.

k. Description of Amendment: Flashboards are needed to raise North Battle Creek Reservoir to its full capacity, 1,039-acre-feet, for the recreation season, June 1 through September 10. Existing license article 33 (f) requires the licensee to install flashboards by June 1, yearly. The proposed amendment to article 33 (f) would allow the licensee to delay up to one month (from June 1 to July 1) the placement of flashboards at North Battle Creek dam when late runoff or heavy snowpack precludes road access to the dam by truck. During such years, the licensee: would install flashboards as soon as roads are passable by truck; and would notify the Forest supervisor of Lassen National Forest five business days prior to June 1 and, subsequently, once the reservoir is at or above 1,039-acre-feet.

l. Locations of the application: Copies of the application are available for inspection and reproduction at the Commission's Public Reference Room, located at 888 First street, NE, Room 2A, Washington, DC 20426, or by calling (202) 208-1371. The application also may be viewed on the Web at www.ferc.fed.us/online/rims.htm. Call (202) 208-2222 for assistance. copies of the application also are available for inspection and reproduction at the addresses in item h above.

m. Individuals desiring to be included on the Commission's mailing list for the proposed amendment of license should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR ”MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the applicant. If an agency does not file comments within the time specified for filing comments, it will be presumed to have no comments. One copy of an agency's comments must also be sent to the Applicant's representatives.

Linwood A. Watson, Jr.,
Acting Secretary.

[FR Doc. 00-3466 Filed 2-14-00; 8:45 am]

BILLING CODE 6717-01-M